DEPARTMENT OF DEFENSE

Department of the Army; Corps of Engineers

Intent To Prepare a Draft Programmatic Environmental Impact Statement for Community Relocation, Newtok, AK

AGENCY: Department of the Army, U.S. Army Corps of Engineers, DoD.

ACTION: Notice of intent.

SUMMARY: The U.S. Army Engineer District, Alaska, intends to prepare a Draft Programmatic Environmental Impact Statement (DEIS) to evaluate the feasibility of erosion protection measures for the community of Newtok, Alaska. Newtok, population 284 (2000 census), is a coastal community situated on the west bank of the Newtok River, just north of the Ninglick River and approximately 9 miles northwest of Nelson island, The Ninglick River connects the Bering Sea with the Baird Inlet, located farther upstream from Newtok. The village is located 94 miles northwest of Bethel, in the Yukon-Kuskokwim Delta region of Western Alaska. The north, east, and south boundaries of the community are contiguous with the Yukon Delta National Wildlife Refuge.

The Newtok community is approximately 735 feet to the south of the encroaching Ninglick River, which is eroding toward the village at an average rate of 64 feet per year. Thermal degradation of the riverbank is causing shoreline sloughing.

A typical soil profile has deep-frozen silts layered with peat at the surface. Permafrost continuously underlies a 2-foot active layer (sometimes thicker when a greater layer of peat is present). The shoreline is highly vulnerable to flooding, especially during spring ice jams in the river or during severe westerly windstorms on the Bering Sea.

The programmatic DEIS will determine whether Federal action is warranted and will define alternative actions for Congressional consideration. Site specific alternatives will be addressed in more detail in a second tier of the EIS process.

FOR FURTHER INFORMATION CONTACT: Lizette Boyer (907) 753-2637, Alaska District, U.S. Army Corps of Engineers, Environmental Resources Section (CEPOA-EN-CW-ER), P.O. Box 6898, Elmendorf AFB, AK 99506-0898. E-mail: Lizette.P.Boyer@poa02.usace.army.mil.

SUPPLEMENTARY INFORMATION: This study is authorized under section 203, 33 U.S.C. Tribal Partnership Program. The community of Newtok has existed on the present town site since 1949 when they moved from Old Kealavik, 3 miles away. The people of Newtok share a strong cultural heritage with the Nelson Island communities; their ancestors have lived on the Bering Sea coast for at least 2,000 years. Relative isolation from outside influences has enabled the area to retain its traditions and customs.

The programmatic DEIS will consider various erosion protection alternatives, including relocation of the community and construction of erosion protection structures in Newtok to prevent land and property losses. The feasibility of extensive bank protection will be analyzed and compared with relocation alternatives. Relocation would mean the abandonment of the Newtok community town site near the river. Relocation alternatives include moving the people of Newtok to a larger hub community such as Bethel where they would be incorporated into the fabric of that community; moving the population to a smaller, closer community such as one of the three existing communities on Neslon Island (Toksook, Nightmure or Tununak), which would involve developing additional or shared infrastructure in those locations, or constructing a new town at a site on the north end of Nelson Island called Takikchak. The community is intent on relocating to Takikchak. The Newtok Native Corporation owns the Takikchak townsite. A portion of the land was conveyed to the Newtok Native Corporation from the Yukon Delta Fish and Wildlife Refuge in 2003 in accordance with Pub. L. 108-129. The Nelson Island area is within their traditional subsistence corridors.

Issues: The programmatic DEIS will consider the need of Newtok to preserve its community identity and the potential impacts of the alternatives on the cultural resources and infrastructure of the community. In addition, the programmatic DEIS will address the importance of maintaining the community's traditional subsistence lifestyles, while providing modern infrastructure and housing. Issues associated with relocation to an existing community include property and business losses, impacts of social/cultural changes, and impacts on the infrastructure capacity of the receiving location. Issues associated with relocation and construction of a new townsite include engineering constructability criteria and environmental suitability. Constructability criteria include geologic stability, availability of fill material, and potable water sources. Environmental issues include effects to endangered species and wildlife habitat, and justifiable and practicable mitigation measures. Other resources and concerns will be identified through scoping, public involvement, and interagency coordination.

Scoping. A copy of this notice and additional public information will be sent to interested parties to initiate scoping. All parties are invited to participate in the scoping process by identifying any additional concerns, issues, studies, and alternatives that should be considered. A scoping meeting will be held in Newtok, Alaska, in summer 2005 at a place and time to be announced. The programmatic DEIS is scheduled for releast in 2007.

Guy R. McConnell,
Chief, Environmental Resources Section.

[FR Doc. 05-7607 Filed 4-15-05; 8:45 am]

BILLING CODE 3710-NL-M